DEPARTMENT OF HOUSING AND URBAN DEVELOPMENT

[Docket No. FR-5681-N-46]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Army: Ms. Veronica Rines, Office of the Assistant Chief of Staff for Installation Management, Department of Army, Room 5A128, 600 Army Pentagon, Washington, DC 20310, (571) 256-8145; Coast Guard: Commandant, United States Coast Guard, Attn: Jennifer Stomber, 2100 Second St. SW., Stop 7901, Washington, DC 20593-0001; (202) 475-5609; Interior: Mr. Michael Wright, Acquisition & Property Management, Department of the Interior, MS-4262, 1849 C Street, Washington, DC, 20240, (202) 513-0795; Navy: Mr. Steve Matteo, Department of the Navy, Asset Management Division, Naval Facilities Engineering Command, Washington Navy Yard, 1330 Patterson Ave. SW., Suite 1000, Washington, DC 20374; (202) 685-9426; (These are not toll-free numbers).

Dated: November 21, 2013.
Mark Johnston,
Deputy Assistant Secretary for Special Needs.

TITLE V, FEDERAL SURPLUS PROPERTY PROGRAM

FEDERAL REGISTER REPORT FOR 11/29/2013

Suitable/Available Properties

Building

California

Klamath National Forest

Equipment Warehouse; 4910006

538 Oak Knoll Rd.

Klamath CA 96050

Landholding Agency: Agriculture

Property Number: 15201340002

Status: Excess

Comments: off-site removal only; will need to dissemble to relate; 84+ yrs.-old; 2,273 sq. ft.; storage; lead paint; dropping; secured area; contact Agriculture for more info.

Imperial Dam Camp House #9

2400 Imperial Rd.

Bard CA 92222

Landholding Agency: Interior

Property Number: 61201340004

Status: Unutilized

Comments: off-site removal only; no future agency need; relocation may be difficult; 1,035 sq. ft.; residential; 32+ months vacant; poor conditions; asbestos/lead; contact Interior for more info.

Imperial Dam Camp House #1

2400 Imperial Rd.

Bard CA 92222

Landholding Agency: Interior

Property Number: 61201340005

Status: Unutilized

Comments: off-site removal; no future agency need; 792 sq. ft.; residential; poor conditions; major repairs/upgrades needed; asbestos/lead; contact Interior for more info.

Bldg. 2172

Marine Corps Air Ground Task

Force Training Command

Twentynine Palms CA 92278

Landholding Agency: Navy

Property Number: 77201340006

Status: Excess

Comments: off-site removal only; 756 sq. ft.; stored targets; 66+ yrs.-old; extensive exterior/interior wood damage; asbestos/lead; secured area; contact Navy for more info.

Bldg. 2175

Marine Corps Air Ground Task

Force Training Command

Twentynine Palms CA 92278

Landholding Agency: Navy

Property Number: 77201340007

Status: Excess

Comments: off-site removal only; 756 sq. ft.; stored targets; 66+ yrs.-old; extensive exterior/interior wood damage; asbestos/lead; secured area; contact Navy for more info.

Bldg. 5174

Marine Corps Air Ground Task

Force Training Command

Twentynine Palms CA 92278

Landholding Agency: Navy

Property Number: 77201340008

Status: Excess

Comments: off-site removal; 1,200 sq. ft.; 14+ yrs.-old; poor conditions; renovations needed; may contain asbestos; secured area; contact Navy for more info.

Bldg. 5771

Marine Corps Air Ground Task

Force Training Command

Twentynine Palms CA 92278

Landholding Agency: Navy

Property Number: 77201340009

Status: Excess

Comments: off-site removal only; 2,046 sq. ft.; 7+ yrs.-old; good conditions; located w/in airport runway clear zone; secured area; contact Navy for more info.

Massachusetts

12 Buildings

USCG Air Station Cape Cod

Bourne MA 02542

Landholding Agency: Coast Guard

Property Number: 88201340004

Status: Excess

Directions: 5645 (4,984 sq. ft.); 5602 (4,179 sq. ft.); 5601 (6,269 sq. ft.); 5443 (4,984 sq. ft.); 5441 (4,984 sq. ft.); 5425 (4,984 sq. ft.); 5415 (4,984 sq. ft.); 5413 (4,984 sq. ft.); 5364 (4,984 sq. ft.); 5331 (2,476 sq. ft.); 5317 (4,984 sq. ft.); 5316 (4,984 sq.)

Comments: off-site removal only; major repairs needed; units vacant; secured area; contact Coast Guard for more info. on a specific property & accessibility requirements

Tennessee

Bldg. 376

7943 Memphis AV

Millington TN

Landholding Agency: Navy

Property Number: 77201340010

Status: Unutilized

Directions: (includes fuel storage tanks 1756 & 1757)

Comments: off-site removal only; no future agency need; 264 sq. ft.; filling station; deteriorated; secured area; contact Navy for more info.

Virginia

Tract 01-114; Large Shed

Cedar Creek & Belle Grove National Historical Park; 621 Bowman's Mill Rd.

Middletown VA 22645

Landholding Agency: Interior

Property Number: 61201340003

Status: Excess

Comments: off-site removal only; 200 sq. ft.; 10+ yrs. vacant; poor conditions; wood structure; attempt to relocate will likely result in a complete collapse of the structure

Unsuitable Properties

Building

California

Building 178

Defense Distribution San Joaquin, Sharpe Site

700 E Roth Road

San Joaquin CA 95231

Landholding Agency: Army

Property Number: 21201340024

Status: Unutilized

Directions: 178

Comments: Public access denied and no alternative method to gain access without compromising national security.

Reasons: Secured Area

Imperial Dam Camp House #10

2400 Imperial Rd.

Bard CA 92222

Landholding Agency: Interior

Property Number: 61201340008

Status: Unutilized

Comments: Document deficiencies; on 05/03/2012 bldg. was destroyed by fire; unsalvageable; presents a clear threat to personal safety

Reasons: Extensive deterioration

Iowa

4 Buildings

Iowa Army Ammunition Plant

Middletown IA 52601

Landholding Agency: Army

Property Number: 21201340034

Status: Unutilized

Directions: 0023A, 00128, 00153, 05213

Comments: Public access denied and no alternative method to gain access without compromising national security.

Reasons: Secured Area

Missouri

15 Buildings

Camp Clark MOARING

Nevada MO 64772

Landholding Agency: Army

Property Number: 21201340003

Status: Unutilized

Directions: H0001, H0002, H0003, H0004, H0005, H00006, H0007, H0008, H0009, H0010, H0011, H0012, H0013, H0015, H0016

Comments: public access denied and no alternative method to gain access without compromising national security.

Reasons: Secured Area

North Carolina

2 Building

FT Bragg

FT Bragg NC 28310

Landholding Agency: Army

Property Number: 21201340006

Status: Underutilized

Directions: 41571, 42472

Comments: Public access denied and no alternative to gain access without compromising national security.

Reasons: Secured Area

A4638

FT Bragg

FT Bragg NC 28310

Landholding Agency: Army

Property Number: 21201340007

Status: Underutilized

Comments: Public access denied and no alternative method to gain access without compromising national security.

Reasons: Secured Area

Tennessee

4 Buildings

Milan AAP

Milan TN 38358

Landholding Agency: Army

Property Number: 21201340035

Status: Excess

Directions: I0205; I0206; I0209; T0114

Comments: Public access denied & no alternative method to gain access without compromising National Security.

Reasons: Secured Area

Virginia

T1810

Fort Pickett Training Center

Blackstone VA 23824

Landholding Agency: Army

Property Number: 21201340022

Status: Unutilized

Comments: Public access denied and no alternative method to gain access without compromising national security.

Reasons: Secured Area

Land

Colorado

1.5 Acres

Navajo Unit

Navajo CO

Landholding Agency: Interior

Property Number: 61201340006

Status: Excess

Comments: landlocked; can only access by crossing private property where there is no established right or means of entry.

Reasons: Not accessible by road

0.23 Acres

Mancos Project

Mancos CO

Landholding Agency: Interior

Property Number: 61201340007

Status: Excess

Comments: Landlocked; can only access by crossing private property where there is no established right or means of entry.

Reasons: Not accessible by road

[FR Doc. 2013-28378 Filed 11-27-13; 8:45 am]

BILLING CODE 4210-67-P